ENVIRONMENTAL PROTECTION AGENCY

[FRL-9872-01-R6]

Clean Air Act Operating Permit Program; Petitions for Objection to State Operating Permit for ExxonMobil Fuels & Lubricant Company, Baton Rouge Refinery, Reforming Complex and Utilities Units, East Baton Rouge Parish, Louisiana

AGENCY: Environmental Protection Agency (EPA).

ACTION: Notice of final Order on Petition for objection to Clean Air Act title V operating permits.

SUMMARY: The Environmental Protection Agency (EPA) Administrator signed an Order dated March 18, 2022, granting two title V permit Petitions and resolving two related petitions filed by the Louisiana Bucket Brigade, Earthjustice, Environmental Integrity Project, and Sierra Club (the Petitioners). The Administrator granted the petition filed on January 29, 2021 by Petitioners on title V permit 2261-V8 issued for the Reformer Unit. This action also effectively resolves the Petitioner's petition filed on May 11, 2020 for the same permit. In the same action, the Administrator granted the petition filed on February 12, 2021 by Petitioners on title V permit 2363-V8 issued for the Utilities Unit. This action also effectively resolves the Petitioner's petition filed on March 27, 2020 filed on the same permit. The Petitions requested that the EPA object to the Clean Air Act (CAA) title V operating permits issued by the Louisiana Department of Environmental Quality to ExxonMobil Fuels & Lubricant Company for its Baton Rouge Refinery located in East Baton Rouge Parish, Louisiana.

ADDRESSES: The EPA requests that you contact the individual listed in the FOR FURTHER INFORMATION CONTACT section to view copies of the final Order, the Petition, and other supporting information. Out of an abundance of caution for members of the public and our staff, the EPA Region 6 office may be closed to the public to reduce the risk of transmitting COVID-19. Please call or email the contact listed below if you need alternative access to the final Order and Petition, which are available electronically at: https://www.epa.gov/title-v-operating-permits/title-v-petition-database.

FOR FURTHER INFORMATION CONTACT: Brad Toups, EPA Region 6 Office, Air Permits Section, (214) 665-7258, toups.brad@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received a total of four Petitions filed by the Louisiana Bucket Brigade, Earthjustice, Environmental Integrity Project, and Sierra Club. Petitioners filed a Petition on May 11, 2020 which was superseded by the filing of a second petition on January 29, 2021 on title V permit 2261-V8 issued for the Reformer Unit. The Administrator's action granted the Petitioner's Reformer Unit petition filed January 29, 2021 and effectively resolves the superseded petition filed on May 11, 2020 for the same permit. Similarly, Petitioners filed a petition on March 27, 2020 which was superseded by the filing of a second petition on February 12, 2021 on title V permit 2363-V8 issued for the Utilities Unit. The same Administrator's action granted the Petitioner's Utility Unit petition filed February 12, 2021 and effectively resolves the superseded petition filed on March 27, 2020 for the same permit.

The Petitioners made five claims in their Petition on the Reformer Permit. The claims were related to volatile organic compound (VOC) emissions monitoring, justification for such monitoring, changing of VOC emissions factors without adequate permit modification, and that the permit failed to ensure compliance with 40 CFR part 68, Chemical Accident Prevention Provision requirements. The Petitioners also made three claims in the Petition on the Utilities Permit consisting of inadequate monitoring and estimation of VOC emissions from the wastewater system, inadequate monitoring and emissions calculations of particulate matter (PM) emissions from the cooling towers, and an inadequate reasoned explanation for why the proposed permit ensures compliance with the VOC and PM limits at issue.

On March 18, 2022, the EPA Administrator issued an Order granting all claims to both permits in the respective Petitions. The Order explains the basis for EPA's decision.

Dated: May 16, 2022.
David Garcia,
Director, Air and Radiation Division, Region 6.

[FR Doc. 2022-10793 Filed 5-19-22; 8:45 am]

BILLING CODE 6560-50-P